DEPARTMENT OF VETERANS AFFAIRS

Geriatrics and Gerontology Advisory Committee, Notice of Charter Renewal

This gives notice under the Federal Advisory Committee Act (Pub. L. 92-463) of October 6, 1972, that the Department of Veterans' Affairs Geriatrics and gerontology Advisory Committee has been renewed for a 2-year period beginning September 5, 2000, through September 5, 2002.

Dated: September 5, 2000.
By direction of the Acting Secretary.
Marvin R. Eason,
Committee Management Officer.

[FR Doc. 00-23568 Filed 9-13-00; 8:45 am]

BILLING CODE 8320-01-M